ENVIRONMENTAL PROTECTION AGENCY

[FRL-6864-2]

Agency Information Collection Activities: Proposed Collection; Comment Request; Protection of Stratospheric Ozone—Phaseout Regulation

AGENCY: Environmental Protection Agency (EPA).

ACTION: Notice.

SUMMARY: In compliance with the Paperwork Reduction Act (44 U.S.C. 3501 et seq.), this document announces that EPA is planning to submit the following renewal of the Information Collection Request (ICR) to the Office of Management and Budget (OMB): Record Keeping and Periodic Reporting of the Production, Import, Recycling, Destruction, Transshipment and Feedstock Use of Ozone-Depleting Substances, EPA Number 1432.17; OMB Number 2060-0170; with an extended expiration date of 1/31/01. Before submitting the ICR to OMB for review and approval, EPA is soliciting comments on specific aspects of the proposed information collection as described below.

DATES: Comments must be submitted on or before November 6, 2000.

ADDRESSES: Copies of the material supporting this ICR renewal notice are available free of charge from The Stratospheric Ozone Protection Hotline at 1-800-269-1996 between the hours of 10am and 4pm Eastern Standard Time.

FOR FURTHER INFORMATION CONTACT: Tom Land, U.S. Environmental Protection Agency, Stratospheric Protection Division (6205J), 1200 Pennsylvania Ave., NW, Washington, D.C., 20460, telephone (202)-564-9185, facsimile (202)-565-2093, e-mail: land.tom@epa.gov.

SUPPLEMENTARY INFORMATION: Affected Entities: Entities potentially affected by this action are those which produce, import, export, destroy, transform as a feedstock, and distribute controlled ozone-depleting substances.

Title: Record Keeping and Periodic Reporting of the Production, Import, Recycling, Destruction, Transshipment and Feedstock Use of Ozone-Depleting Substances, EPA Number 1432.17; OMB Number 2060-0170; with an extended expiration date of 1/31/01.

Abstract: The international treaty The Montreal Protocol on Substances that Deplete the Ozone Layer (Protocol) and Title VI of the Clean Air Act (CAA) establish limits on total U.S. production, import and export of class I and class II controlled ozone-depleting substances. The U.S. is obligated under the Protocol to cease production and import of class I controlled substances with exemptions for essential-uses, previously used material, and material that will be transformed, destroyed or exported to developing countries. The Protocol also establishes limits and reduction schedules leading to the eventual phaseout of class II controlled substances and methyl bromide with similar exemptions beyond the phaseout. The CAA has its own limits on production and consumption of controlled substances that EPA must enforce using the information submitted.

To ensure U.S. compliance with the limits and restrictions established by the Protocol and the CAA, the regulation establishes control measures for individual companies. The limits and restrictions for individual U.S. companies are monitored by EPA through the reporting requirements established in the regulation under 40 CFR Part 82, Subpart A. The information submitted to EPA is entered into the Stratospheric Protection Tracking System. The Tracking System allows EPA to conduct compliance monitoring of individual companies, as well as compliance monitoring for the U.S. with respect to Protocol obligations and statutory requirements under the CAA.

EPA uses the information to direct special attention to illegal activities associated with the import of both newly produced and previously used controlled substances. Illegal imports and the avoidance of the tax on these chemicals reduce the incentive to shift to alternatives substances that do not deplete the ozone layer and penalize companies who are complying with U.S. laws. EPA is active in the Federal inter-agency taskforce conducting nation-wide enforcement actions against illegal imports. The information provided to EPA in response to the accelerated phaseout regulations often form the basis and support for these enforcement cases.

The regulation outlines both record keeping and reporting requirements. These reporting requirements are designed: (1) To satisfy U.S. obligations under the international treaty, the Montreal Protocol on Substances that Deplete the Ozone Layer, in particular the requirements under Article 7 of the Protocol; (2) to fulfill statutory obligations under Section 603(b) of Title VI of the CAA; (3) to report to Congress on the production, use and consumption of class I and class II controlled substances as statutorily required in Section 603(d) of the CAA; and (4) to address Federal and industry concerns regarding illegal imports of newly produced and previously used controlled substances that are undercutting the U.S. markets for alternatives.

The information submitted to EPA is maintained in a Tracking System that allows the Agency: (1) To maintain control over total production and consumption of controlled substances to satisfy conditions of the CAA and fulfill U.S. obligations under the Protocol; (2) to monitor compliance with limits and restrictions on production, imports, exports and specific exemptions to the phaseout for individual U.S. companies; and (3) to enforce against illegal importers and other violations related to the control of class I and class II controlled substances. Reporting on the exemptions permits a person to retain the benefit of being able to produce or import a controlled class I ozone-depleting substance beyond the date of complete phaseout.

Pursuant to regulations 40 CFR part 2, subpart B, you are entitled to assert a business confidentiality claim covering any part of the submitted business information as defined in 40 CFR 2.201(c).

An agency may not conduct or sponsor, and a person is not required to respond to, a collection of information unless it displays a currently valid OMB control number. The OMB control numbers for EPA's regulations are listed in 40 CFR part 9 and 48 CFR Chapter 15.

The EPA would like to solicit comments to:

(i) evaluate whether the proposed collection of information is necessary for the proper performance of the functions of the agency, including whether the information will have practical utility;

(ii) evaluate the accuracy of the agency's estimate of the burden of the proposed collection of information, including the validity of the methodology and assumptions used;

(iii) enhance the quality, utility, and clarity of the information to be collected; and

(iv) minimize the burden of the collection of information on those who are to respond, including through the use of appropriate automated electronic, mechanical, or other technological collection techniques or other forms of information technology, e.g., permitting electronic submission of responses.

Burden Statement: The burden hours shown below represent the hours for the renewal of the information collection request (ICR). EPA is concurrently working on many rules that will revise the record keeping and reporting under the regulations in 40 CFR Part 82, Subpart A. These future revisions to the record keeping and reporting requirements will be accompanied by future revisions to the ICR that will be published along with the separate rulemakings. In addition, EPA is in the process of reflecting these many revisions in a changed Guidance Document on reporting (including reporting forms). EPA is also working toward making the reporting forms available electronically as well as creating a secure system for the direct submission of electronic reporting.

Table I—Respondent Burden Hours Per Year
Collection activity | No. of responses | Responses/Respondent | Total responses | Hours per response | Total hours
Producer's Report | 8 | 4 | 32 | 16 | 512
Importer's Report | 6 | 4 | 24 | 16 | 384
Notification of Trade | 2 | 1 | 2 | 2 | 4
Export Report | 10 | 1 | 10 | 80 | 800
Lab Certification | 1000 | 1 | 1000 | 1 | 1000
Class II Report | 14 | 4 | 56 | 16 | 896
Transformation & Destruction | 15 | 1 | 15 | 80 | 1200
Essential Use Allowance Holders | 12 | 4 | 48 | 24 | 1152
Lab Suppliers | 4 | 4 | 16 | 24 | 384
Lab Suppliers—Reference Standards | 10 | 1 | 10 | 16 | 160
Total Burden Hours | 1081 | 25 | 1213 | 283 | 6492

Burden mean the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

The accelerated phaseout rule for ozone-depleting substances requires respondents to submit reports to the Agency and maintain records. Operating and maintenance (O&M) costs include file storage, photocopying, and postage. Operating and maintenance costs also include the general upkeep of start-up capital equipment, as well as any purchase of services such as contractor or auditing services. The O&M costs are estimated at $3,032 for the accelerated phase out rule for ozone-depleting substances.

Summary Bottom Line Burden Hours and Costs: (a) Respondent's annual burden hours, $6,876; (b) Respondent's annual labor costs, $536,328; (c) Respondent's capital/start-up costs (ICR renewal notice), $0; (d) Respondent's O & M costs, $3,032; (e) Agency's annual burden hours, $2,159; (f) Agency's annual labor costs, $102,125.

Send comments regarding these matters, or any other aspects of the information collection, including suggestions for reducing the burden, to the address listed in the ADDRESSES section of this Notice.

Dated: August 23, 2000.
Avis C. Robinson,
Acting Director, Office of Atmospheric Programs.

[FR Doc. 00-22811 Filed 9-5-00; 8:45 am]

BILLING CODE 6560-50-P